DEPARTMENT OF EDUCATION

[Docket No. ED-2021-SCC-0158]

Mandatory Civil Rights Data Collection; Correction

AGENCY: Office for Civil Rights (OCR), Department of Education (ED).

ACTION: Correction Notice.

SUMMARY: On September 26, 2022, the U.S. Department of Education published a 30-day comment period notice in the Federal Register with FR DOC# 2022-20754 (Page 58342, Column 3, Page 58343, Column 1, Column 2, Column 3) seeking public comment for an information collection entitled, “Mandatory Civil Rights Data Collection”. Instructions provided in the Addresses section were incorrect. The purpose of this notice is to provide information on how to access the documents for review and comment. Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

DATES: Interested persons are invited to submit comments on or before October 31, 2022.

The PRA Coordinator, Strategic Collections and Clearance, Office of the Chief Data Officer, Office of Planning, Evaluation and Policy Development, hereby issues a correction notice as required by the Paperwork Reduction Act of 1995.

Dated: September 27, 2022.
Stephanie Valentine,
PRA Coordinator, Strategic Collections and Clearance, Office of the Chief Data Officer, Office of Planning, Evaluation and Policy Development.

[FR Doc. 2022-21317 Filed 9-29-22; 8:45 am]

BILLING CODE 4000-01-P